DEPARTMENT OF HOMELAND SECURITY

Coast Guard

33 CFR Parts 100 and 165

[USCG-2004-19416]

Quarterly Listings; Safety Zones, Security Zones, Special Local Regulations and Regulated Navigation Areas

AGENCY: Coast Guard, DHS.

ACTION: Notice of temporary rules issued.

SUMMARY: This document provides required notice of substantive rules issued by the Coast Guard and temporarily effective between July 1, 2004, and September 30, 2004, that were not published in the Federal Register. This quarterly notice lists temporary special local regulations, security zones, safety zones, and regulated navigation areas, all of limited duration and for which timely publication in the Federal Register was not possible.

DATES: This document lists temporary Coast Guard rules that became effective and were terminated between July 1, 2004, and September 30, 2004.

ADDRESSES: The Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Andrea M. Jenkins, Program Manager, Docket Operations, telephone 202-366-0271.

SUPPLEMENTARY INFORMATION: Coast Guard District Commanders and Captains of the Port (COTP) must be immediately responsive to the safety and security needs within their jurisdiction; therefore, District Commanders and COTPs have been delegated the authority to issue certain regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Regulated navigation areas establish regulations for vessels navigating within the area. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, security zones, safety zones or regulated navigation areas by Coast Guard officials; on-scene prior to any enforcement action. However, the Coast Guard, by law, must publish in the Federal Register notice of substantive rules adopted. To meet this obligation without imposing undue expense on the public, the Coast Guard periodically publishes a list of these temporary special local regulations, security zones, safety zones and regulated navigation areas. Permanent rules are not included in this list because they are published in their entirety in the Federal Register. Temporary rules are also published in their entirety if sufficient time is available to do so before they are placed in effect or terminated. The safety zones, special local regulations, security zones and regulated navigation areas listed in this notice have been exempted from review under Executive Order 12866, Regulatory Planning and Review, because of their emergency nature, or limited scope and temporary effectiveness.

The following rules were placed in effect temporarily during the period from July 1, 2004, through September 30, 2004, unless otherwise indicated.

Dated: October 19, 2004.
D.L. Nichols,
Acting Chief, Office of Regulations and Administrative Law.

District Quarterly Report—3rd Quarter 2004
District docket | Location | Type | Effective date
01-04-006 | Tall Ships Environmental Festival, New London | Safety/Security Zone | 7/21/2004
01-04-038 | UBS Trophy America's Cup Class Regatta, Rhode | Safety Zone | 7/19/2004
01-04-044 | Beverly Homecoming Fireworks—Beverly, Massac | Safety Zone | 8/8/2004
01-04-045 | Lynn, MA | Safety Zone | 7/3/2004
01-04-056 | Quonset Point, RI | Safety Zone | 7/18/2004
01-04-061 | Beverly, MA | Safety Zone | 7/4/2004
01-04-062 | Salem Harbor, Salem, MA | Safety Zone | 7/4/2004
01-04-085 | Charles River, MA | Safety Zone | 7/4/2004
01-04-086 | 4th of July Parade, Manchester, MA | Safety Zone | 7/3/2004
01-04-094 | Boston, MA | Security Zone | 7/14/2004
01-04-097 | Boston, Massachusetts | Safety Zone | 7/29/2004
01-04-101 | Democratic National Convention Events | Security Zone | 7/28/2004
01-04-110 | Kennebunkport, ME | Security Zone | 8/6/2004
01-04-112 | Marine Safety Office Boston Change of Command | Security Zone | 8/12/2004
01-04-120 | Portland, ME | Security Zone | 9/17/2004
05-04-108 | Washington, D.C. and Arlington and Fairfax | Security Zone | 7/9/2004
05-04-124 | Chickahominy River, Williamsburg, VA | Safety Zone | 7/4/2004
05-04-125 | Linkhorn Bay, Virginia Beach, VA | Safety Zone | 7/4/2004
05-04-126 | Atlantic Ocean, Ocean City, MD | Safety Zone | 7/4/2004
05-04-127 | Newport News, VA | Safety Zone | 7/4/2004
05-04-128 | Atlantic Ocean, Virginia Beach, VA | Safety Zone | 7/4/2004
05-04-130 | Potomac River, VA | Safety Zone | 7/11/2004
05-04-132 | York River, Yorktown, VA | Safety Zone | 7/4/2004
05-04-140 | Delaware Bay | Security Zone | 7/22/2004
05-04-141 | Atlantic Ocean, Atlantic City, NJ | Special Local Reg | 8/18/2004
05-04-147 | Choptank River, MD | Special Local Reg | 9/26/2004
05-04-151 | Wilmington, NC | Safety Zone | 8/14/2004
05-04-154 | Tullytown, PA | Special Local Regs | 9/11/2004
05-04-159 | Delaware River | Security Zone | 8/17/2004
05-04-185 | Atlantic Ocean, VA | Safety Zone | 9/25/2004
05-04-186 | Chesapeake Bay, VA | Safety Zone | 9/20/2004
05-04-188 | Delaware River, PA | Safety Zone | 9/24/2004
07-04-043 | Dania Beach/Hollywood Super Boat Race, Dania | Special Local Regs | 7/18/2004
08-04-029 | Ohio River, KY | RNA | 8/8/2004
09-04-014 | Lake Michigan, IN | Safety Zone | 7/16/2004
09-04-049 | Mona Lake, MI | Safety Zone | 7/2/2004
09-04-050 | Lake Erie, MI | Safety Zone | 7/2/2004
09-04-051 | Lake Ontario, Olcott, NY | Safety Zone | 7/3/2004
09-04-052 | Poet Bay, Lake Ontario, Wolcott, NY | Safety Zone | 7/3/2004
09-04-053 | Sodus Bay, NY | Safety Zone | 7/3/2004
09-04-054 | Lake Huron, MI | Safety Zone | 7/3/2004
09-04-055 | Tonawanda, NY | Safety Zone | 7/4/2004
09-04-056 | Lake Ontario, NY | Safety Zone | 7/4/2004
09-04-057 | Maumee River, OH | Safety Zone | 7/3/2004
09-04-058 | Lake Erie | Safety Zone | 7/3/2004
09-04-059 | Detroit River, MI | Safety Zone | 7/2/2004
09-04-060 | Saginaw River | Safety Zone | 7/5/2004
09-04-061 | Trenton Channel | Safety Zone | 7/4/2004
09-04-062 | Lake Huron, MI | Safety Zone | 7/4/2004
09-04-065 | Lake Huron, MI | Safety Zone | 7/4/2004
09-04-066 | Lake Huron, MI | Safety Zone | 7/4/2004
09-04-067 | Lake Michigan, IL | Safety Zone | 7/3/2004
09-04-068 | Maumee River, OH | Safety Zone | 7/4/2004
09-04-069 | St. Clair River, MI | Safety Zone | 7/3/2004
09-04-070 | Lake St. Clair, MI | Safety Zone | 7/4/2004
09-04-071 | Detroit River, MI | Safety Zone | 7/4/2004
09-04-072 | Lake St. Clair, MI | Safety Zone | 7/4/2004
09-04-073 | St. Clair River, MI | Safety Zone | 7/4/2004
09-04-074 | Lake Huron, MI | Safety Zone | 7/4/2004
09-04-075 | Lake St. Clair, MI | Safety Zone | 7/3/2004
09-04-076 | Ecorse Channel, MI | Safety Zone | 7/4/2004
09-04-077 | Lake Michigan, WI | Safety Zone | 7/4/2004
09-04-078 | Lake Huron, MI | Safety Zone | 7/4/2004
09-04-080 | Lake Erie, OH | Safety Zone | 7/5/2004
09-04-081 | Lake Michigan, WI | Safety Zone | 7/3/2004
09-04-082 | Manitowac River, MI | Safety Zone | 7/4/2004
09-04-083 | Seneca River, MI | Safety Zone | 7/16/2004
09-04-084 | Buffalo Harbor, NY | Safety Zone | 7/9/2004
09-04-085 | Huron Harbor, OH | Safety Zone | 7/9/2004
09-04-086 | Fireworks Display, Kewaunee Harbor, Lake Mic | Safety Zone | 7/16/2004
09-04-087 | Duluth Harbor | Security Zone | 7/13/2004
09-04-088 | St. Lawrence River, NY | Safety Zone | 7/11/2004
09-04-089 | Lake Huron, MI | Safety Zone | 7/18/2004
09-04-090 | Detroit River | Safety Zone | 7/15/2004
09-04-091 | Lake Huron, MI | Safety Zone | 7/17/2004
09-04-092 | Port Washington Fish Day Fireworks, Port Wash | Safety Zone | 7/17/2004
09-04-093 | Presque Isle Harbor, Lake Superior Marquette, | Security Zone | 7/13/2004
09-04-094 | Harbor Beach Fireworks, Lake Huron, MI | Safety Zone | 7/17/2004
09-04-098 | Renaissance Center, Cobo Hall, Detroit River, MI | Security Zone | 7/22/2004
09-04-099 | Oswego Harbor Fest Air Show, Oswego, NY | Safety Zone | 7/24/2004
09-04-100 | Renaissance Center, Cobo Hall, Detroit River, MI | Security Zone | 7/23/2004
09-04-101 | Regatta Trenton Race, Detroit River, Trenton, MI | Safety Zone | 7/24/2004
09-04-102 | Tug salvor and barge KT C115 marine casualty | Safety Zone | 7/27/2004
09-04-103 | St. Clair River, St. Clair, MI | Safety Zone | 7/31/2004
09-04-106 | Cleveland Harbor, Cleveland, Ohio | Security Zone | 7/30/2004
09-04-110 | Milwaukee Harbor, Milwaukee, Wisconsin | Safety Zone | 7/30/2004
09-04-111 | Port Washington, WI | Safety Zone | 7/17/2004
09-04-112 | Muskegon, Michigan to Milwaukee, Wisconsin | Security Zone | 8/2/2004
09-04-113 | Kenosha, Wisconsin | Safety Zone | 8/4/2004
09-04-114 | Milwaukee River, Milwaukee, Wisconsin | Security Zone | 8/2/2004
09-04-115 | Milwaukee, Wisconsin | Safety Zone | 8/6/2004
09-04-116 | Milwaukee, Wisconsin | Safety Zone | 8/7/2004
09-04-117 | Saginaw River, Saginaw, MI | Security Zone | 8/5/2004
09-04-118 | Lake Michigan, Muskegon, MI | Safety Zone | 8/6/2004
09-04-119 | Lake Erie, Bay Village, Ohio | Safety Zone | 8/8/2004
09-04-120 | Seneca River, Baldwinsville, NY | Safety Zone | 8/7/2004
09-04-121 | Grand Haven, MI | Safety Zone | 8/13/2004
09-04-122 | Fairport Harbor, Grand River, Ohio | Safety Zone | 8/14/2004
09-04-124 | Cleveland Harbor, Cleveland, Ohio | Safety Zone | 8/14/2004
09-04-126 | St. Clair, MI | Safety Zone | 8/20/2004
09-04-128 | Lakeview Park, Lorain, Ohio | Safety Zone | 8/29/2004
09-04-132 | Duluth, MN | Security Zone | 9/9/2004
09-04-133 | Lake Michigan, IL | Safety Zone | 9/17/2004
09-04-134 | Antique Boat Show, Buffalo, NY | Safety Zone | 9/11/2004
09-04-135 | Chicago River, IL | Safety Zone | 9/23/2004
09-04-136 | Cleveland Harbor, OH | Security Zone | 9/15/2004
09-04-137 | Milwaukee River, WI | Safety Zone | 9/18/2004
09-04-139 | Baldwinsville, NY | Safety Zone | 9/18/2004
09-04-141 | President Bush, Racine WI Rally | Security Zone | 9/24/2004
09-04-377 | Lake Erie, MI | Safety Zone | 7/3/2004
13-04-030 | Coos Bay, OR | Safety Zone | 7/4/2004
13-04-032 | Fireworks Display in the COTP Zone | Safety Zone | 7/4/2004
13-04-035 | Budd Inlet, West Bay, Olympia, Washington and | Security Zone | 8/17/2004
13-04-036 | Medina, Lake Washington, WA | Security Zone | 8/13/2004
13-04-037 | Columbia and Willamette Rivers, Portland, OR | Security Zone | 8/13/2004
13-04-038 | Columbia River, OR, in the vicinity of Hood R | Security Zone | 8/14/2004
Charleston 04-111 | Vessels Carrying U.S. Department of Energy Ca | Security Zone | 9/17/2004
Guam 04-006 | U.S. Navy Underwater Detonation Operations Out | Safety Zone | 7/1/2004
Guam 04-007 | U.S. Navy Underwater Detonation Operation Nor | Safety Zone | 7/1/2004
Guam 04-008 | Unexploded ordnance, South of Orote Peninsula | Safety Zone | 7/4/2004
Jacksonville 04-051 | Banana River, FL | Safety Zone | 7/4/2004
Jacksonville 04-052 | Lake Eustis, Eustis, FL | Safety Zone | 7/2/2004
Jacksonville 04-053 | St. John's River, FL | Safety Zone | 7/4/2004
Jacksonville 04-054 | Daytona Beach, FL | Safety Zone | 7/4/2004
Jacksonville 04-055 | Indian River | Safety Zone | 7/4/2004
Jacksonville 04-056 | Atlantic Ocean | Safety Zone | 7/4/2004
Jacksonville 04-057 | Lake Monroe Harbor, FL | Safety Zone | 7/4/2004
Jacksonville 04-058 | Indian River, FL | Safety Zone | 7/4/2004
Jacksonville 04-062 | Melbourne, FL | Safety Zone | 7/4/2004
Jacksonville 04-064 | Amelia River, FL | Safety Zone | 7/4/2004
Jacksonville 04-067 | St. John's River, FL | Safety Zone | 7/4/2004
Jacksonville 04-068 | Halifax River, FL | Safety Zone | 7/4/2004
Jacksonville 04-069 | Lake Dora, FL | Safety Zone | 7/4/2004
Jacksonville 04-070 | West Lake Tohopekaliga, FL | Safety Zone | 7/4/2004
Jacksonville 04-078 | St. John's River | Safety Zone | 7/4/2004
Jacksonville 04-079 | Atlantic Ocean | Safety Zone | 7/4/2004
Jacksonville 04-086 | Matanzas River, FL | Safety Zone | 7/4/2004
Jacksonville 04-088 | St. Marys River | Safety Zone | 7/3/2004
Jacksonville 04-102 | Port Canaveral, FL | Safety Zone | 8/2/2004
Jacksonville 04-122 | Port Canaveral, FL | Safety Zone | 9/25/2004
Jacksonville 04-123 | Ports of Jacksonville and Fernandina, FL | Safety Zone | 9/25/2004
Louisville 04-006 | Ohio River, KY | Safety Zone | 7/22/2004
Miami 04-071 | West Palm Beach, FL | Safety Zone | 7/4/2004
Miami 04-072 | Lantana, FL | Safety Zone | 7/4/2004
Miami 04-073 | Boynton Beach, FL | Safety Zone | 7/4/2004
Miami 04-074 | Ft. Lauderdale, FL | Safety Zone | 7/4/2004
Miami 04-075 | Stuart, FL | Safety Zone | 7/4/2004
Miami 04-076 | Bayside Park, Miami, FL | Safety Zone | 7/4/2004
Miami 04-077 | Rivera Beach, FL | Safety Zone | 7/4/2004
Miami 04-081 | Biscayne Bay, FL | Safety Zone | 7/10/2004
Miami 04-085 | Bay Front Park, FL | Security Zone | 7/10/2004
Miami 04-098 | Miami, FL | Safety Zone | 7/21/2004
Mobile 04-021 | Pensacola, FL | Security Zone | 8/10/2004
Mobile 04-022 | Pensacola, FL | Security Zone | 8/10/2004
Mobile 04-028 | Panama City, FL | Security Zone | 8/10/2004
Mobile 04-029 | Powell Lake, FL | Security Zone | 8/10/2004
Mobile 04-030 | St. Andrews Bay, FL | Security Zone | 8/10/2004
Mobile 04-031 | Panama City, FL | Security Zone | 8/10/2004
Mobile 04-032 | Panama City, FL | Security Zone | 8/10/2004
New Orleans 04-008 | St. Louis Bay, MS | Safety Zone | 7/12/2004
New Orleans 04-009 | Lower Mississippi River | Safety Zone | 7/21/2004
New Orleans 04-010 | Inner Harbor, New Orleans, LA | Safety Zone | 7/2/2004
New Orleans 04-011 | Inner Harbor, New Orleans, LA | Safety Zone | 7/2/2004
New Orleans 04-012 | South West Pass, LA | Safety Zone | 7/12/2004
New Orleans 04-013 | Lower Mississippi River, LA | Safety Zone | 7/12/2004
New Orleans 04-014 | Mississippi River, LA | Safety Zone | 7/11/2004
New Orleans 04-016 | Port Sulphur, LA | Safety Zone | 7/2/2004
New Orleans 04-017 | Bayou Sorrel, LA | Safety Zone | 7/10/2004
New Orleans 04-018 | Vicksburg, MS | Safety Zone | 7/1/2004
New Orleans 04-019 | Mississippi River, LA | Safety Zone | 7/3/2004
New Orleans 04-020 | Lake Pontchartrain | Safety Zone | 7/4/2004
New Orleans 04-021 | Lake Pontchartrain, LA | Safety Zone | 7/4/2004
New Orleans 04-022 | Southwest Passage, LA | Safety Zone | 7/2/2004
New Orleans 04-023 | Lower Mississippi River, LA | Safety Zone | 7/29/2004
New Orleans 04-024 | Lower Mississippi River, LA | Safety Zone | 8/26/2004
New Orleans 04-025 | Lower Mississippi River, LA | Safety Zone | 8/28/2004
New Orleans 04-026 | Lower Mississippi River, LA | Safety Zone | 8/29/2004
New Orleans 04-031 | Mississippi River, LA | Safety Zone | 9/22/2004
Pittsburgh 04-015 | Allegheny River, PA | Safety Zone | 7/24/2004
Pittsburgh 04-020 | Allegheny River, PA | Safety Zone | 7/29/2004
Pittsburgh 04-021 | Monogahela River, PA | Safety Zone | 7/31/2004
Pittsburgh 04-022 | Monogahela River, PA | Security Zone | 7/31/2004
Pittsburgh 04-023 | Allegheny River, PA | Safety Zone | 9/8/2004
Port Arthur 04-006 | Hackberry, LA | Safety Zone | 7/22/2004
Port Arthur 04-007 | Neches River, TX | Safety Zone | 7/9/2004
Port Arthur 04-010 | Neches River, TX | Safety Zone | 7/4/2004
Port Arthur 04-012 | Sabine-Neches Canal, TX | Safety Zone | 7/4/2004
Port Arthur 04-013 | Sabine River, TX | Safety Zone | 7/4/2004
San Diego 04-016 | Colorado River, Laughlin, NV | Safety Zone | 7/1/2004
San Diego 04-017 | Laughlin, NV | Safety Zone | 7/3/2004
San Diego 04-018 | North San Diego Bay, CA | Safety Zone | 7/2/2004
San Diego 04-020 | San Diego Bay | Security Zone | 7/23/2004
San Diego 04-022 | Lake Havasu, AR | Safety Zone | 7/18/2004
San Diego 04-023 | San Diego Bay, CA | Safety Zone | 9/9/2004
San Diego 04-024 | Laughlin, NV | Safety Zone | 9/5/2004
San Francisco Bay 04-014 | San Francisco Bay, CA | Safety Zone | 7/4/2004
San Francisco Bay 04-019 | Sacramento River | Safety Zone | 7/23/2004
San Francisco Bay 04-021 | San Francisco Bay, CA | Safety Zone | 9/10/2004
San Juan 04-081 | Swimming Across San Juan Harbor, San Juan, PR | Safety Zone | 7/18/2004
Savannah 04-089 | Savannah River, Savannah River, GA | Safety Zone | 7/4/2004
Southeast Alaska 04-001 | Peril Strait, Cozian Reef, Motor vessel LeCont | Safety Zone | 7/2/2004
Southeast Alaska 04-002 | Tugboat Chuhunta and Motor vessel LeConte, So | Safety Zone | 7/4/2004
St. Louis 04-001 | Burlington, IA | Safety Zone | 7/20/2004
St. Louis 04-002 | Dubuque, LA | Security Zone | 7/7/2004
St. Louis 04-003 | Lake of the Ozarks, MO | Safety Zone | 7/5/2004
St. Louis 04-004 | St. Louis, MO | Security Zone | 7/2/2004
St. Louis 04-005 | Davenport, IA | Safety Zone | 7/3/2004
St. Louis 04-006 | Moline, IL | Safety Zone | 7/25/2004
St. Louis 04-007 | Davenport, IA | Safety Zone | 7/25/2004
St. Louis 04-008 | Davenport, IA | Safety Zone | 7/26/2004
St. Louis 04-009 | Kansas City, MO | Safety Zone | 7/1/2004
St. Louis 04-010 | LaGrange, MO | Safety Zone | 7/31/2004
St. Louis 04-011 | Hannibal, MO | Safety Zone | 7/1/2004
St. Louis 04-012 | Kansas City, MO | Safety Zone | 7/4/2004
St. Louis 04-013 | Missouri River, KS | Safety Zone | 7/4/2004
St. Louis 04-014 | Missouri River, KS | Safety Zone | 7/2/2004
St. Louis 04-015 | Upper Mississippi River, MO | Safety Zone | 7/15/2004
St. Louis 04-016 | St. Paul, MN | Safety Zone | 7/3/2004
St. Louis 04-017 | Bellevue, IA | Safety Zone | 7/4/2004
St. Louis 04-018 | Clinton, IA | Safety Zone | 7/4/2004
St. Louis 04-019 | Upper Mississippi River, IA | Safety Zone | 7/3/2004
St. Louis 04-020 | East Moline, IL | Safety Zone | 7/4/2004
St. Louis 04-021 | Ft. Madison, IA | Safety Zone | 7/4/2004
St. Louis 04-022 | Illinois River, IL | Safety Zone | 7/4/2004
St. Louis 04-023 | Illinois River, IL | Safety Zone | 7/4/2004
St. Louis 04-025 | Missouri River, NE | Safety Zone | 7/17/2004
St. Louis 04-026 | Missouri River, KS | Safety Zone | 7/24/2004
St. Louis 04-027 | Leclaire, IA | Safety Zone | 8/14/2004
St. Louis 04-028 | Kaskaskia River, IL | Safety Zone | 8/15/2004
St. Louis 04-029 | Upper Mississippi River, IL | Safety Zone | 8/14/2004
St. Louis 04-030 | Davenport, IA | Security Zone | 8/4/2004
St. Louis 04-034 | Lake of the Ozarks, MO | Safety Zone | 8/29/2004
St. Louis 04-037 | Missouri River, MO | Safety Zone | 9/18/2004
St. Louis 04-038 | Missouri River, ,MO | Safety Zone | 9/24/2004
St. Louis 04-039 | Upper Mississippi River, IA | Safety Zone | 9/18/2004
St. Louis 04-040 | Upper Mississippi River, MN | Security Zone | 9/16/2004
Tampa 04-110 | Tampa Bay, FL | Safety Zone | 9/10/2004

[FR Doc. 04-23965 Filed 10-26-04; 8:45 am]

BILLING CODE 4910-15-M